DEPARTMENT OF LABOR

Employment and Training Administration

Proposed Collection: Comment Request

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the National Office of Job Corps is soliciting comments concerning the proposed new collection of Job Corps' Graduate and Former Enrollee Placement Re-verification and Follow-up Surveys.

A copy of the proposed information collection request (ICR) can be obtained by contacting the office listed below in the addressee section of this notice.

DATES: Written comments must be submitted to the office listed in the addressee's section below on or before February 22, 2001.

ADDRESSES: Send comments to Edna Primrose-Coates, U.S. Department, of Labor, Office of Job Corps, 200 Constitution Ave., NW., Room N4656, Washington, DC 20210, Tel. (202) 693-3135, Fax (202) 693-3113, or e-mail eprimrose-coates@doleta.gov..

SUPPLEMENTARY INFORMATION:

I. Background

Job Corps is the nation's largest and most comprehensive residential education and job training program for at-risk youth, ages 16 and 24. Program participants are typically high school dropouts in need of further education and vocational training. Authorized by the Workforce Investment Act (WIA) of 1998, Job Corps is operated by the Department of Labor through a nationwide network of 118 Job Corps centers. The program is primarily residential, operating 24 hours per day, 7 days per week, with non-resident students limited by legislation to 20 percent of national enrollment. These centers presently accommodate more than 42,000 students. While students may stay in Job Corps up to two years to complete their programs, the average length of stay is eight months. Thus, more than 68,000 young people receive training in Job Corps in a year.

When they separate from Job Corps, youth are prepared to pursue employment opportunities related to their Job Corps training, post-secondary educational and training experiences, or enter the Armed Forces. The purpose of this data collection effort is to provide the National Office of Job Corps with information on the status of Job Corps students after they separate from the program. Information will be collected on the status of placed graduates 13 weeks, 6 months, and 12 months after their initial placement in a job or school/training program. Similar information will also be collected on the status of former enrollees (non-graduates who stayed at least 60 days) 13 weeks after they separate from Job Corps, and on non-placed graduates 12 months after they complete the program. This data collection effort also includes re-verification of reported initial employment and/or school placements of graduates and former enrollees. These data will be used to:

• Provide information to Congress and the Secretary of Labor on the employment and education outcomes of Job Corps graduates and former enrollees per Workforce Investments act reporting requirements.

• Assessment graduates' and former enrollees' satisfaction with their Job Corps experience in order to identify useful program aspects and those factors that contributed to decisions to withdraw from the program prior to graduation, where applicable.

Information to fulfill these objectives will be collected using telephone surveys. These telephone surveys will be conducted with graduates and former enrollees at the aforementioned times.

The Secretary of Labor will use the data collected to assess Job Corps' effectiveness in meeting its objectives according to the Workforce Investment Act. In addition, the Director of Job Corps will incorporate these data into its Outcome Measurement System to evaluate the short-term post-center outcomes of graduates and former enrollees, as well as the long-term post-center outcomes of graduates. The Director will also use this information on student outcomes and customer feedback to develop and/or refine policies in order to improve its delivery of educational and job training services to at-risk youth.

II. Review Focus

The Department of Labor is particularly interested in comments which:

• Evaluate whether the proposed collection of information is necessary for the proper performance of the functions of the agency, including whether the information will have practical utility;

• Evaluate the agency's burden estimates for the proposed data collection, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

This submission requests approval of three surveys that will be used to collect follow-up data on individuals who are no longer actively participating in Job Corps. The surveys are comprised of modules that include questions designed to obtain the following information: re-verification of initial job and/or school placements; employment and educational experiences; job search activities of those who are neither working nor in school; and information about former participants' satisfaction with the services provided by Job Corps.

Additionally, this submission requests approval of two brief surveys (one for employers and one of the schools or training institutions) that will be used to collect initial placement re-verification data for the subset of placed graduates and former enrollees that cannot be contacted directly.

Type of Review: New.

Agency: U.S. Department of Labor, National Office of Job Corps.

Title: Job Corps' Graduate and Former Enrollee Placement Re-Verification and Follow-up Surveys.

Agency Number: If applicable; otherwise omit this line entirely.

Affected Public: Individuals who separate from Job Corps; Business or other for-profit/Not-for-profit institutions.

Form | Total respondents | Frequency | Total responses | Average time per response (minutes) | Burden (hours)
Placed Former Enrollees at 13 Weeks | 6,020 | One time only | 6,020 | 15 | 1,505
Placed Graduates at 13 Weeks | 26,400 | One time only | 26,400 | 15 | 6,600
Non-Placed Former Enrollees at 13 Weeks | 1,330 | One time only | 1,330 | 10 | 226
Non-Placed Graduates at 12 Months | 1,365 | One time only | 1,365 | 10 | 228
Placed Graduates at 6 Months | 24,640 | One time only | 24,640 | 12 | 4,928
Placed Graduates at 12 Months | 23,000 | One time only | 23,000 | 10 | 3,833
Totals |  |  | 82,745 |  | 17,320

Total Burden Cost (capital/startup): Job Corps will initiate its telephone data collection from former enrollees and graduates starting after January 2001. Computer Assisted Telephone Interviewing (CATI) centers are being established at two contractors' locations. The total cost is estimated at $89,380, including $43,380 for hardware, $40,000 for software and $6,000 for communications.

Total Burden Cost (operating/maintaining): The estimated annual cost of completing 82,755 interviews with Job Corps graduates and former enrollees is $2,482,650. This includes $220,500 for the former enrollee surveys—placed and non-placed; $40,950 for the non-placed graduate survey at 12-months; $792,000 for placed graduates at 13 weeks; and $1,429,200 for placed graduate surveys and 6 and 12 months.

Comments submitted in response to this comment request will be summarized and/or included in the request for Office of Management and Budget approval of the information collection request; they will also become a matter of public record.

Dated: December 18, 2000.
Richard C. Trigg,
National Director of Job Corps.

[FR Doc. 00-32709 Filed 12-21-00; 8:45 am]

BILLING CODE 4510-30-M